DEPARTMENT OF COMMERCE

International Trade Administration

The Manufacturing Council: Meeting of The Manufacturing Council

AGENCY: International Trade Administration, U.S. Department of Commerce.

ACTION: Notice of an Open Meeting via Teleconference.

SUMMARY: The Manufacturing Council will hold a meeting via teleconference to conduct their inaugural meeting and receive briefings regarding sustainable manufacturing.

DATES: June 27, 2008.

Time: 1 p.m. (EDT).

For the Conference Call-In Number and Further Information, Contact: The Manufacturing Council Executive Secretariat, Room 4043, Washington, DC 20230 (Phone: 202-482-1369), or visit the Council's Web site at http://www.manufacturing.gov/council.

Dated: June 13, 2008.
Caroline Swann,
Director, Office of Advisory Committees.

[FR Doc. 08-1368 Filed 6-13-08; 3:58 pm]

BILLING CODE 3510-DR-P